ENVIRONMENTAL PROTECTION AGENCY

40 CFR Part 82

[FRL-8163-1]

RIN 2060-AN18

Protection of Stratospheric Ozone: The 2006 Critical Use Exemption From the Phaseout of Methyl Bromide

AGENCY: Environmental Protection Agency (EPA).

ACTION: Final rule; technical correction.

SUMMARY: The Environmental Protection Agency published in the Federal Register of February 6, 2006, a final rule exempting methyl bromide production and import for 2006 critical uses. Specifically, EPA authorized uses that qualify for the 2006 critical use exemption, and the amount of methyl bromide that may be produced, imported, or made available from inventory for those uses in 2006. EPA's action was taken under the authority of the Clean Air Act (CAA) and reflects recent consensus Decisions taken by the Parties to the Montreal Protocol on Substances that Deplete the Ozone Layer (Protocol) at the 16th and 17th Meetings of the Parties (MOPs) and the 2nd Extraordinary Meeting of the Parties (ExMOP). This document corrects an error made in the calculation of critical use allowances (CUAs) described in that document.

DATES: Effective Date: April 28, 2006.

FOR FURTHER INFORMATION CONTACT: Marta Montoro, Office of Atmospheric Programs, Stratospheric Protection Division, Mail Code 6205 J, Environmental Protection Agency, 1200 Pennsylvania Avenue, NW., Washington, DC 20460; telephone number: (202) 343-9321; fax number: (202) 343-2337; e-mail address: mebr.allocation@epa.gov.

SUPPLEMENTARY INFORMATION:

I. General Information

A. Does This Action Apply to Me?

Entities potentially regulated by this action are those associated with the production, import, export, sale, application and use of methyl bromide covered by an approved critical use exemption. Potentially regulated categories and entities include:

Category | Examples of regulated entities
Industry | Producers, Importers and Exporters of methyl bromide; Applicators, Distributors of methyl bromide; Users of methyl bromide such as farmers of vegetable crops, fruits and seedlings, owners of stored food commodities and structures such as grain mills and processors, and government and non-government researchers.

The above table is not intended to be exhaustive, but rather to provide a guide for readers regarding entities likely to be regulated by this action. This table lists the types of entities that EPA is aware could be potentially regulated by this action. To determine whether your facility, company, business, or organization is regulated by this action, you should carefully examine the regulations promulgated at 40 CFR part 82, subpart A. If you have questions regarding the applicability of this action to a particular entity, consult the person listed in the preceding FOR FURTHER INFORMATION CONTACT section.

II. What Does This Correction Do?

EPA published a rule in the Federal Register of February 6, 2006, (71 FR 5985), which contained an error occurring in the calculation of the allocation of critical use allowances. The final rule document contained aggregated totals for both 2006 critical use allowances for pre-plant uses of methyl bromide and 2006 critical use allowances for post-harvest uses of methyl bromide, each measured in kilograms. The totals in Table II of the final rule labeled “ALLOCATION OF CRITICAL USE ALLOWANCES”, and § 82.8(c)(1) “Allocated critical use allowances granted for specified control period,” are incorrectly calculated. Consequently, this technical correction supersedes the totals found in Table II, § 82.8(c)(1), and any other place wherein the original totals are stated in the final rule.

The error occurred due to a spreadsheet miscalculation, which caused a discrepancy in the summed totals of the allocated critical use allowances. This error has been corrected and is represented in the new numbers, provided in this technical correction, for both pre-plant and post-harvest critical uses of methyl bromide. The numerical alterations, which come as a result of this correction, are minor.

The correct total for 2006 critical use allowances for pre-plant uses of methyl bromide is 6,319,080 kilograms. The final rule, published February 6, 2006 (71 FR 5985) incorrectly stated 6,315,237 kilograms. The correct total for 2006 critical use allowances for post-harvest uses of methyl bromide is 608,569 kilograms, but was incorrectly stated in the February 6, 2006 final rule as 506,250 kilograms. For 2006, the correct total production and import amount EPA is authorizing for critical uses is 6,927,649 kilograms. The total was incorrectly stated in the February 6, 2006 final rule as 6,821,487. The correct numbers are shown in the table below.

Table I.—Allocation of Critical Use Allowances
Company | 2006 critical use allowances for pre-plant uses* (kilograms) | 2006 critical use allowances for post-harvest uses* (kilograms)
Great Lakes Chemical Corp | 3,840,406 | 369,856
Albemarle Corp | 1,579,235 | 152,091
Ameribrom, Inc | 872,402 | 84,018
TriCal, Inc | 27,037 | 2,604
Total | 6,319,080 | 608,569
* For production or import of class I, Group VI controlled substance exclusively for the Pre-Plant or Post-Harvest uses specified in Appendix L to 40 CFR Part 82.

The corrections will become effective immediately (without further rulemaking action) on April 28, 2006.

III. Statutory and Executive Order Reviews

Under Executive Order 12866, Regulatory Planning and Review (58 FR 51735, October 4, 1993), this action is not a “significant regulatory action” and is, therefore, not subject to review by the Office of Management and Budget (“OMB”). This action is not a “major rule” as defined by 5 U.S.C. 804(2). The technical correction does not impose an information collection burden under the provisions on the Paperwork Reduction Act of 1995 (44 U.S.C. 3501 et seq.).

Because EPA has made a “good cause” finding that this action is not subject to notice and comment requirements under the APA or any other stature, it is not subject to the regulatory flexibility provisions of the Regulatory Flexibility Act (5 U.S.C. 601 et seq.), or to section 202 and 205 of the Unfunded Mandates Reform Act of 1995 (Pub. L. 104-4). In addition, this action does not significantly or uniquely affect small governments or impose a significant intergovernmental mandate, as described in section 203 and 204 of the UMRA.

The correction does not have substantial direct effects on the States, or on the relationship between the national Government and the States, or on the distribution of power and responsibilities among the various levels of Government, as specified in Executive Order 13132, Federalism (64 FR 43255, August 10, 1999).

This action also does not significantly or uniquely affect the communities of tribal governments, as specified by Executive Order 13175, Consultation and Coordination with Indian Tribal Governments (65 FR 67249, November 9, 2000). The technical correction also is not subject to executive Order 13045, Protection of Children From Environmental Health and Safety Risks (62 FR 19885, April 23, 1997) because it is not economically significant.

The correction is not subject to Executive Order 13211, Actions Concerning Regulations That Significantly Affect Energy Supply, Distribution, or Use (66 FR 28355, May 22, 2001) because it is not a significant regulatory action under Executive Order 12866.

Section 553 of the Administrative Procedure Act (APA), 5 U.S.C. 552(b)(B), provides that, when an Agency for good cause finds that notice and public procedure are impracticable, unnecessary, or contrary to the public interest, the Agency may issue a rule without providing notice and an opportunity for public comment. We have determined that there is good cause for making this action final without prior proposal and opportunity for comment because the change to the rule corrects an error, is noncontroversial, and is consistent with the technical basis of the rule. Thus, notice and public procedure are unnecessary. We find that this constitutes good cause under 5 U.S.C 553(b)(B) (see also the final sentence of section 307(d)(1) of the CAA, 42 U.S.C. 7607(d)(1), indicating that the good cause provisions of the APA continue to apply to rulemaking under section 307(d) of the Clean Air Act (CAA).

Section 553(d)(3) allows an agency, upon a finding of good cause, to make a rule effective immediately. Because these changes relieve an unintended restriction, we find good cause to make these technical corrections effective immediately.

This action does not involve any technical standards; thus, the requirements of section 12(d) of the National Technology Transfer and Advancement Act of 1995 (15 U.S.C. 272) do not apply.

The correction also does not involve special consideration of environmental justice-related issues as required by Executive order 12898, Federal Actions to Address Environmental Justice in Minority Populations and Low-income Populations (59 FR 7629, February 16, 1994).

The Congressional Review Act, 5 U.S.C. 801 et seq., as added by SBREFA of 1996, generally provides that before a rule may take effect, the agency promulgating the rule must submit a rule report, which includes a copy of the rule, to each House of the Congress and to the Comptroller General of the U.S. The EPA will submit a report containing this final action and other required information to the U.S. Senate, the U.S. House of Representatives, and the Comptroller General of the U.S. prior to publication of this action in the Federal Register. This action is not a “major rule” as defined by 5 U.S.C. 804(2). The final rule will be effective on April 28, 2006.

The EPA's compliance with these Executive Orders and statutes for the underlying rule is discussed in the February 6, 2006, Federal Register notice containing the exemption of methyl bromide production and import for 2006 critical uses.

List of Subjects in 40 CFR Part 82

Environmental protection; Environmental treaty; Montreal Protocol on Substances that Deplete the Ozone Layer; Ozone depletion; Methyl bromide; Chemicals; Exports, Imports, Production, Reporting and recordkeeping requirements.

Dated: April 21, 2006.
William L. Wehrum,
Acting Assistant Administrator for the Office of Air and Radiation.

For the reasons set out in the preamble, 40 CFR part 82 is amended as follows:

PART 82—PROTECTION OF STRATOSPHERIC OZONE

1. The authority citation for part 82 continues to read as follows:

Authority: 42 U.S.C. 7414, 7601, 7671-7671q.

2. Section 82.8 is amended by revising the table in paragraph (c)(1) to read as follows:

§ 82.8 Grant of essential use allowances and critical use allowances.

* * * * *

(c) * * *

(1) * * *

Company | 2006 Critical use allowances for pre-plant uses* (kilograms) | 2006 Critical use allowances for post-harvest uses* (kilograms)
Great Lakes Chemical Corp | 3,840,406 | 369,856
Albemarle Corp | 1,579,235 | 152,091
Ameribrom, Inc | 872,402 | 84,018
TriCal, Inc | 27,037 | 2,604
Total | 6,319,080 | 608,569
* For production or import of class I, Group VI controlled substance exclusively for the Pre-Plant or Post-Harvest uses specified in appendix L to this subpart.

* * * * *

[FR Doc. 06-4021 Filed 4-27-06; 8:45 am]

BILLING CODE 6560-50-P